NUCLEAR REGULATORY COMMISSION

Advisory Committee on Nuclear Waste and Materials; Meeting Notice

The Advisory Committee on Nuclear Waste and Materials (ACNW&M) will hold its 188th meeting on April 8-10, 2008, at 11545 Rockville Pike, Rockville, Maryland.

Tuesday, April 8, 2008, Room T-2B3

8 a.m.-4:10 p.m.: Working Group on the Effects of Low Radiation Doses Science And Policy (Open)—Purpose: The objectives of this Working Group Meeting are: (1) To discuss the Linear Non-Threshold (LNT) theory in light of current health physics, medical theory and cohort databases; (2) to review uncertainties about the presence or absence of health effects at low doses; (3) to examine the balance of science and policy in regulatory practice; (4) to discuss possible alternative approaches to the LNT theory in regulatory practice; and (5) to develop the information necessary to provide a letter report to the Commission.

8-8:05 a.m.: Greetings and Introductions (Open)—Dr. Michael Ryan, the cognizant ACNW&M Member for this meeting topic, will provide an overview of the expected goals for the Working Group Meeting, the planned technical sessions, and introduce the invited speakers.

8:05-8:25 a.m.: Opening Remarks by NRC Commissioner Peter B. Lyons (Open)

8:25 a.m.-4:10 p.m.: Session I: The State of the Science (Open)—This session will include six presentations. There will be a lunch break from 11:45 a.m.-1 p.m.

4:10-5 p.m.: Discussion of ACNW&M Letter Reports (Open)—The Committee will discuss potential ACNW&M letter reports on matters considered during previous meetings: (1) Managing Low-Activity Radioactive Waste; (2) Use of Burnup Credit for Licensing Spent Fuel Transportation Casks.

Wednesday, April 9, 2008, Room T-2B3

8:30 a.m.-4:10 p.m.: Working Group on the Effects of Low Radiation Doses Science and Policy—Continuation (Open)—Session II: Balancing Science and Policy in the Regulatory Area. There will be three presentations and a panel discussion. A lunch break will be held from 11:15 a.m.-1 p.m.

4:10-5 p.m.: Discussion of ACNW&M Letter Reports (Open)—Continued discussion of proposed and potential ACNW&M letter reports mentioned previously, as well as (3) Effects of Low Radiation Doses.

Thursday, April 10, 2008, Room T-2B1

8:30-8:35 a.m.: Opening Remarks by the ACNW&M Chairman (Open) The Chairman will make opening remarks regarding the conduct of today's sessions.

8:35 a.m.-12 p.m.: Discussion of ACNW&M Letter Reports (Open) (All) Continued discussion of proposed and potential ACNW&M letter reports previously listed.

4:10-5 p.m.: Miscellaneous (Open)—The Committee will discuss matters related to the conduct of ACNW&M activities and specific issues that were not completed during previous meetings. Discussions may include content of future letters and scope of future Committee Meetings.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefore can be obtained by contacting Dr. Dias.

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

During the days of the meeting, phone number 301-415-7360 should be used in order to access anyone in the ACNW&M Office.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Dated: March 19, 2008.
Andrew L. Bates,
Advisory Committee Management Office.

[FR Doc. E8-5979 Filed 3-24-08; 8:45 am]

BILLING CODE 7590-01-P